FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—10/02/2006
20061809 | J.P. Morgan Chase & Co | AAlPharma, Inc | AAlPharma, Inc.
20061813 | 2003 TIL Settlement | HCIA Holding, LLC | Solucient, LLC.
20061814 | Wind Point Partners VI, L.P | Pfingsten Partners II, LLC | Pfingsten Publishing, LLC.
20061816 | UBS AG | KeyCorp | McDonald Investments Inc.
20061819 | Gaz de France | SUEZ | SUEZ.
20061820 | CDW Corporation | Berbee Information Networks Corporation | Berbee Information Networks Corporation.
20061821 | Mr. Yitzhak Sharon | Republic Companies Group, Inc | Republic Companies Group, Inc.
20061822 | William P. Foley, II | Fidelity National Financial, Inc | Fidelity National Title Group, Inc.
20061823 | Sybase Inc | Mobile 365, Inc | Mobile 365, Inc.
20061826 | Babcock & Brown Infrastructure Limited | NorthWestern Corporation | NorthWestern Corporation.
20061828 | Thoma Cressey Fund VIII, L.P | Embarcadero Technologies, Inc | Embarcadero Technologies, Inc.
Transactions Granted Early Termination—10/03/2006
20051492 | Lockheed Martin Corporation | United Launch Alliance, LLC | United Launch Alliance, LLC.
20061741 | Wolters Kluwer N.V | Primus Capital Fund V Limited Partnership | TaxWise Corporation.
20061805 | Eisai Co., Ltd | Ligand Pharmaceuticals Incorporated | Ligand Pharmaceuticals Incorporated.
20061824 | Avion Group; hf | Atlas Cold Storage Income Trust | Atlas Cold Storage Income Trust.
Transactions Granted Early Termination—10/04/2006
20061795 | Nucor Corporation | Verco Manufacturing Company | Verco Manufacturing Company.
Transactions Granted Early Termination—10/05/2006
20061743 | Blake and Delise Sartini | Generation 2000, LLC | Generation 2000, LLC.
20061778 | King Pharmaceuticals, Inc | Ligand Pharmaceuticals, Incorporated | Ligand Pharmaceuticals, Incorporated.
20061798 | Novacap II, Limited Parternship | Tri-Tech Laboratories, Inc | Tri-Tech Laboratories, Inc.
20061800 | Harbinger Capital Partners Offshore Fund I, Ltd | Playtex Products, Inc | Playtex Products, Inc.
20061804 | Mining Systems Holding, LLC c/o SPG Partners, LLC | Bruce A. Cassidy, Sr | Excel Mining Systems, Inc.
20061808 | -1 Identity Solutions, Inc | John A. Cross and Louise V. Brouillette | SpecTal, LLC.
20061818 | Blackstone Capital Partners V L.P | John M. and Marilyn M. Moretz | Moretz, Inc.
20061827 | Goldcorp, Inc | Glamis Gold, Ltd | Glamis Gold, Ltd.
20061844 | The Professional Basketball Club, LLC | The Basketball Club of Seattle, LLC | The Basketball Club of Seattle, LLC.
Transactions Granted Early Termination—10/06/2006
20051491 | The Boeing Company | United Launch Alliance, LLC | United Launch Alliance, LLC.
20061755 | ValuedAct Capital Master Fund, L.P | USI Holdings Corp | USI Holdings Corp.
20061762 | BCV Investments S.C.A | Aero Invest 1 S.p.A | Aero Invest 1 S.p.A.
20061811 | JPMorgan Chase & Co | Pier 1 Imports, Inc | Pier 1 Assets, Inc.
20061830 | ASP IV Alternative Investments, L.P | Kirtland Capital Partners III, L.P | PDM Bridge, LLC.
20061837 | Trelleborg AB | OCM Opportunities Fund, L.P | Second LAC, Inc.
20061838 | AmerisourceBergen Corporation | Thomas L. Simpson and June E. Simpson | Health Advocates, Inc.
20061845 | Tenaska Power Fund, L.P | William J. Haugland | Bemis, LLC., Halpin Line Construction, LLC., Hawkeye Group, LLC. Premier Utility Locating, LLC.
20061848 | Corel Holdings, L.P | InterVideo, Inc | InterVideo, Inc.
20061857 | Wind Point Partners VI, L.P | Spire Capital Partners, L.P | Highline Data, LLC., The National Underwriter Company.
20061858 | Citizens Communications Company | Commonwealth Telephone Enterprises, Inc | Commonwealth Telephone Enterprises, Inc.
20061863 | Edmund N. Ansin | Tribune Company | WLVI, Inc.
20061870 | Illinois Tool Works, Inc | Click Commerce, Inc | Click Commerce, Inc.
20061872 | Canadian Natural Resources, Limited | Anadarko Petroleum Corporation | Anadarko Canada Corporation.
20070003 | Hospitality Properties Trust | Oak Hill Capital Partners, L.P | TravelCenters of America, Inc.
Transactions Granted Early Termination—10/11/2006
20061810 | AT&T, Inc | Interpath Communications, Inc | Interpath Communications, Inc.
20061849 | John C. Hampton Revocable Trust | West Fraser Timber Co., Ltd | Babine Forest Products, Limited.
20061869 | Issac E. Larian and Angela Larian | Newell Rubbermaid Inc | The Little Tikes Company, Inc.
20061871 | BB&T Corporation | Mellon Financial Corporation | AFCO Credit Corporation.
Transactions Granted Early Termination—10/13/2006
20061803 | Medical Action Industries, Inc | Medegen Holdings, LLC | Medegen Newco, LLC.

FOR FURTHER INFORMATION CONTACT: Sandra M. Peay, Contact Representative, or Renee Hallman, Contact Representative, Federal Trade Commission, Premerger Notification Office, Bureau of Competition, Room H-303, Washington, DC 20580, (202) 326-3100.

By direction of the Commission.
Donald S. Clark,
Secretary.

[FR Doc. 06-8901 Filed 10-25-06; 8:45 am]

BILLING CODE 6750-01-M